DEPARTMENT OF AGRICULTURE

Rural Housing Service

Rural Business-Cooperative Service; Rural Utilities Service

Farm Service Agency

7 CFR Part 1902

Disbursement of Funds; Correction

AGENCY: Rural Housing Service, Rural Business-Cooperative Service, Rural Utilities Service, and Farm Service Agency, USDA.

ACTION: Final rule, correction.

SUMMARY: This action corrects a final rule that was published in the Federal Register on Wednesday, October 12, 2005.

DATES: December 12, 2005.

FOR FURTHER INFORMATION CONTACT: Renita Bolden, Management Analyst, Regulations and Paperwork Management Branch, Support Services Division, U.S. Department of Agriculture, Stop 0742, 1400 Independence Avenue, SW., Washington, DC 20250-0742; Telephone: 202-692-0035.

SUPPLEMENTARY INFORMATION:

Background

In FR rule document 05-20357 published October 12, 2005 (70 FR 59224), the Agencies published a final rule revising their disbursement of funds regulations to reflect current disbursement methodologies.

Need for Correction

As published, the final rule contained an incorrect reference that may prove to be misleading. This action will correct the error to insure that the accurate information is received.

List of Subjects in 7 CFR Part 1902

Accounting, banks, banking, grant programs-housing and community development, loan programs-agriculture, loan programs-housing and community development.

For reasons set forth in the preamble, Chapter XVIII, title 7, Code of Federal Regulations is amended as follows:

PART 1902-SUPERVISED BANK ACCOUNTS

1. The authority citation for part 1902 continues to read as follows:

Authority: 5 U.S.C. 301; 7 U.S.C. 1989; 7 U.S.C. 6991, et seq.; 42 U.S.C. 1480; Reorganization Plan No. 2 of 1953 (5 U.S.C. App.).

Subpart A—Supervised Bank Accounts of Loan, Grant, and Other Funds

2. Section 1902.4 is amended by revising paragraph (a)(5) to read as follows:

§ 1902.4 Establishing MFH reserve accounts in a supervised bank account.

(a) * * *

(5) Financial institutions. The reserve account must be maintained in authorized financial institutions set out in 7 CFR part 3560, subpart G; e.g., banks, savings associations, credit unions, brokerage firms, mutual funds. Generally, any financial institution may be used provided invested or deposited funds are insured to protect against theft and dishonesty. The reserve account funds need not be Federally insured, but must be otherwise covered by non-Federal insurance against theft and dishonesty.

* * * * *

Dated: December 6, 2005.
Russell T. Davis,
Administrator, Rural Housing Service.

[FR Doc. 05-23886 Filed 12-9-05; 8:45 am]

BILLING CODE 3410-XV-P